DEPARTMENT OF LABOR

Office of the Secretary

Submission for OMB Review; Comment Request

September 25, 2002.

The Department of Labor (DOL) has submitted the following public information collection request (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collection; and minimize the burden of the collection of information on those who are to respond, including through the use of appropriate automated, electronic, mechanical, or other technological collection techniques or other forms of information technology, e.g., permitting electronic submission of responses.

Type of Review: Revision of a currently approved collection.

Agency: Bureau of Labor Statistics (BLS).

Title: Local Area Unemployment Statistics (LAUS) Program Manual.

OMB Number: 1220-0017.

Affected Public: State, Local or Tribal Government.

Frequency: Monthly and Annually.

Estimated Time Per Response and Total Burden Hours:

Form | Number of respondents | Annual frequency | Total annual responses | Estimated hours/response | Total annual burden (Hours)
LAUS 3040 | 52 | 13 months | 86,650 | 1.6 | 138,640
LAUS 8 | 52 | 11 months | 572 | 1.6 | 915
LAUS 15 | 52 | 0.5 months | 26 | 2 | 52
LAUS 16 | 52 | 1 yearly | 52 | 1.4 | 73
Totals |  |  | 87,300 |  | 139,680

Total Annualized Capital/Startup Costs: $0.

Total Annual Costs (operation/maintaining systems or purchasing services: $0.

Description: The Bureau of Labor Statistics has been charged by Congress [Congressional Act of July 7, 1930 (29 USC Chapters 1 and 21)] with the responsibility of collecting and publishing monthly information on employment, the average wage received, and the hours worked by area and industry. The process for developing residency based employment and unemployment estimates is a cooperative Federal-State program that uses employment and unemployment inputs available in State agencies. The estimates are used in economic analysis by public agencies and private industry, and for State and area allocations and eligibility determinations according to legal and administrative requirements. The Manual provides the theoretic basis and essential technical instructions and guidance that States require to prepare State and area unemployment estimates, while the reports are integral parts of the LAUS program that ensure and/or measure the timeliness, quality, consistency, and adherence to program directives and related research. Implementation of policy and legislative prerogatives could not be accomplished as now written without collection of the data.

Ira L. Mills,
Departmental Clearance Officer.

[FR Doc. 02-25380 Filed 10-4-02; 8:45 am]

BILLING CODE 4510-24-M